DEPARTMENT OF ENERGY

Federal Energy Regulatory Commission

[Docket No. ER98-441-023, et al.]

Southern California Edison Company, et al.; Electric Rate and Corporate Regulation Filings

October 2, 2000.

Take notice that the following filings have been made with the Commission:

1. Southern California Edison Company

[Docket No. ER98-441-023]

Take notice that on September 27, 2000, El Segundo Power, LLC tendered for filing its refund compliance report in the above-captioned docket.

The compliance report has been served on the California ISO, SCE, the EOB, and the CPUC.

Comment date: October 18, 2000, in accordance with Standard Paragraph E at the end of this notice.

2. Western Resources, Inc.

[Docket No. ER00-3445-003]

Take notice that on September 27, 2000, Western Resources, Inc. (WR), tendered for filing an amendment to its previous filings in this proceeding. The amendment includes an Order No. 614 compliant version of the Electric Power Supply Agreement (Agreement) between WR and the City of Toronto, Kansas. WR states that this agreement extends the term of this agreement until March 14, 2010.

A copy of this filing was served upon the City of Toronto, Kansas.

Comment date: October 18, 2000, in accordance with Standard Paragraph E at the end of this notice.

3. Dunkirk Power, LLC, Huntley Power, LLC and Oswego Harbor, LLC

[Docket No. EL00-113-000]

Take notice that on September 22, 2000, Dunkirk Power, LLC, Huntley Power, LLC and Oswego Harbor, LLC (collectively NRG), all affiliates of NRG Energy, Inc., submitted a Petition for Declaratory Order requesting that the Commission issue an order declaring that NRG's electric generation facilities, have and have had, the right to treat station power as negative generation. NRG further requests that the Commission issue an order declaring that Niagara Mohawk Power Company cannot (a) require any of NRG's generation facilities to obtain station power under a retail tariff or (b) resort to or utilize state law self-help procedures to bypass the Commission's jurisdiction, terminate station power, and shut down any NRG generation facility. NRG further requests that the Commission issue an interim order preventing Niagara Mohawk from terminating station power for any NRG generation facility pending resolution of NRG's Petition for Declaratory Order.

Comment date: October 20, 2000, in accordance with Standard Paragraph E at the end of this notice.

4. Carolina Power & Light Company

[Docket No. ER00-3537-001]

Take notice that Carolina Power & Light Company (CP&L), on September 27, 2000, tendered for filing Substitute First Revised Sheet No. 137 to First Revised Volume No. 3 that corrects an error in the minimum power factor.

Copies of the filing were served upon the public utility's jurisdictional customers, North Carolina Utilities Commission and South Carolina Public Service Commission.

Comment date: October 18, 2000, in accordance with Standard Paragraph E at the end of this notice.

5. Northeast Utilities Service Company

[Docket No. ER00-3742-001]

Take notice that on September 27, 2000, Northeast Utilities Service Company (NUSCO), on behalf of The Connecticut Light and Power Company (CL&P) and Western Massachusetts Electric Company (WMECO), tendered for filing conformed copies of two agreements dated April 10, 2000, which were filed with the Commission on September 22, 2000, under which the Companies have agreed to sell and deliver to Constellation Power Source, Inc. (CPS) capacity and energy and associated ancillary services to which the Companies are entitled under sixteen power purchase agreements.

NUSCO requests that this filing be accepted by December 1, 2000.

Comment date: October 18, 2000, in accordance with Standard Paragraph E at the end of this notice.

6. Central Illinois Light Company

[Docket No. ER00-3759-000]

Take notice that on September 27, 2000, Central Illinois Light Company (CILCO), 300 Liberty Street, Peoria, Illinois 61602, tendered for filing with the Commission a substitute Index of Point-To-Point Transmission Service Customers under its Open Access Transmission Tariff and two service agreements for one new customer, Madison Gas & Electric.

CILCO requested an effective date of August 28, 2000, for the service agreements.

Copies of the filing were served on the affected customer and the Illinois Commerce Commission.

Comment date: October 18, 2000, in accordance with Standard Paragraph E at the end of this notice.

7. Illinois Power Company

[Docket No. ER00-3761-000]

Take notice that on September 27, 2000, pursuant to Section 35.12 of the Commission's Regulations, 18 CFR 35.12, Illinois Power Company (Illinois Power) tendered for filing a fully executed Service Agreement for Network Integration Transmission Service and a fully executed Network Operating Agreement (collectively, the Agreements) between MidAmerican Energy Company and Illinois Power. Under the Agreements, Illinois Power may provide network services to MidAmerican Energy Company in accordance with Illinois Power's FERC Electric Tariff.

Illinois Power has requested that the Commission accept the fully executed Agreements and that the Agreements become effective as of September 1, 2000.

Illinois Power has served a copy of this filing upon the Illinois Commerce Commission and MidAmerican Energy Company.

Comment date: October 18, 2000, in accordance with Standard Paragraph E at the end of this notice.

8. PJM Interconnection, L.L.C.

[Docket No. ER00-3762-000]

Take notice that on September 27, 2000, PJM Interconnection, L.L.C. (PJM), tendered for filing an executed umbrella service agreement for network integration transmission service under the PJM Open Access Transmission Tariff with Edison Mission Marketing & Trading, Inc., (Edison Mission).

Copies of this filing were served upon Edison Mission and the state commissions within the PJM control area.

Comment date: October 18, 2000, in accordance with Standard Paragraph E at the end of this notice.

9. PJM Interconnection, L.L.C.

[Docket No. ER00-3763-000]

Take notice that on September 27, 2000, PJM Interconnection, L.L.C. (PJM), tendered for filing five executed interconnection service agreements between PJM and PPL Susquehanna, LLC, Susquehanna Electric Company, Constellation Power Source Generation, Inc., Calvert Cliffs Nuclear Power Plant, Inc, and CinCap VI, L.L.C.

PJM requests a waiver of the Commission's 60-day notice requirement to permit the effective dates agreed to by the parties.

Copies of this filing were served upon each of the parties to the agreements the state regulatory commissions within the PJM control area.

Comment date: October 18, 2000, in accordance with Standard Paragraph E at the end of this notice.

10. Jersey Central Power & Light Company

[Docket No. ER00-3764-000]

Take notice that on September 27, 2000, Jersey Central Power & Light Company (Jersey Central), tendered for filing amendments to the Interconnection Agreement by and between AmerGen Energy Company, L.L.C. and Jersey Central.

Copies of the filing were served upon AmerGen and regulators in the State of New Jersey.

Comment date: October 18, 2000, in accordance with Standard Paragraph E at the end of this notice.

11. Entergy Services, Inc.

[Docket No. ER00-3765-000]

Take notice that on September 27, 2000, Entergy Services, Inc., on behalf of Entergy Arkansas, Inc., Entergy Gulf States, Inc., Entergy Louisiana, Inc., Entergy Mississippi, Inc., and Entergy New Orleans, Inc., (collectively, the Entergy Operating Companies), tendered for filing a Non-Firm Point-To-Point Transmission Service Agreement and a Short-Term Firm Point-To-Point Transmission Service Agreement both between Entergy Services, Inc., as agent for the Entergy Operating Companies, and Occidental Chemical Corporation.

Comment date: October 18, 2000, in accordance with Standard Paragraph E at the end of this notice.

12. Canal Electric Company

[Docket No. ER00-3766-000]

Take notice that on September 28, 2000, Canal Electric Company (Canal), tendered for filing the restated sixth amendment (Restated Sixth Amendment) to the Power Contract between Canal and its retail affiliates Cambridge Electric Light Company (Cambridge) and Commonwealth Electric Company (Commonwealth) (Canal Rate Schedule FERC No. 33, the “Seabrook Power Contract”).

The Restated Sixth Agreement provides for a buy down of the Seabrook Power Contract by Cambridge and Commonwealth in furtherance of their efforts to mitigate transition costs, in compliance with the requirements of the Massachusetts Electric Industry Restructuring Act of 1997. Under the Restated Sixth Amendment, Cambridge and Commonwealth each would make a lump-sum payment to Canal, in consideration for a reduction to the Gross Plant Investment account under the Seabrook Power Contract. Reducing the Gross Plant Investment will result in a lower Demand Component under the pricing for the Seabrook Power Contract. With the approval of the Restated Sixth Amendment, Cambridge will pay Canal the amount of $29,260,000, and Commonwealth will pay Canal the amount of $117,481,000 for a reduction in the Gross Plant Investment in the amount of $146,741,000. The Restated Sixth Amendment also would allow for changes in the schedule of decommissioning costs allocable under the Seabrook Power Contract without the need for an amendment every time a change in such schedule is determined by a regulatory agency with jurisdiction over setting such costs.

Canal has requested approval of the Restated Sixth Amendment for effect July 1, 2000.

Comment date: October 18, 2000, in accordance with Standard Paragraph E at the end of this notice.

13. Arizona Public Service Company

[Docket No. ER00-3768-000]

Take notice that on September 28, 2000, Arizona Public Service Company (APS), tendered for filing a revised rate schedule, APS-FERC Rate Schedule No. 192 in compliance with FERC Order in this docket issued September 13, 2000.

A copy of this filing has been served on the Arizona Corporation Commission and the City of Williams.

Comment date: October 18, 2000, in accordance with Standard Paragraph E at the end of this notice.

14. Potomac Electric Power Company

[Docket No. ER00-3769-000]

Take notice that on September 28, 2000, Potomac Electric Power Company (Pepco), tendered for filing a service agreement pursuant to Pepco FERC Electric Tariff, Original Volume No. 5, entered into between Pepco and H.Q. Energy Services (U.S.) Inc.

An effective date of September 1, 2000, for this service agreement, with waiver of notice, is requested.

Comment date: October 18, 2000, in accordance with Standard Paragraph E at the end of this notice.

15. Commonwealth Edison Company

[Docket No. ER00-3770-000]

Take notice that on September 28, 2000, Commonwealth Edison Company (ComEd), tendered for filing Five Non-Firm Transmission Service Agreements (Agreements) with the City of Chicago (CHGO), Indeck Energy Services, Inc. (Indeck), The Legacy Energy Group, LLC (Legacy), NRG Power Marketing Inc. (NRG), and SCANA Energy Marketing, Inc. (SCANA), and eleven Short-Term Firm Transmission Service Agreements with Automated Power Exchange, Inc. (APX), Carolina Power & Light Company (CPL), CHGO, Florida Power & Light Company (FPL), FPL Energy Power Marketing, Inc. (FPLM), Indeck, Legacy, NRG, SCANA, TXU Energy Trading Company (TXU), and Wisconsin Public Power Inc. (WPPI) under the terms of ComEd's Open Access Transmission Tariff (OATT).

ComEd requests an effective date of September 28, 2000 for the Agreements, and accordingly, seeks waiver of the Commission's notice requirements.

Comment date: October 18, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-25838 Filed 10-6-00; 8:45 am]

BILLING CODE 6717-01-P